DEPARTMENT OF AGRICULTURE

Foreign Agricultural Service

7 CFR Part 1530

Sugar Re-Export Program, the Sugar-Containing Products Re-Export Program, and the Polyhydric Alcohol Program

AGENCY: Foreign Agricultural Service, USDA.

ACTION: Proposed rule; withdrawal.

SUMMARY: The Foreign Agricultural Service (FAS) is withdrawing the proposed rule published at 70 FR 3150 on January 21, 2005, to implement Chapter 17 of the Harmonized Tariff Schedule of the United States (HTS), Additional U.S. Note 6, which authorizes entry of raw cane sugar under subheading 1701.11.20 of the HTS for the production of polyhydric alcohols, except polyhydric alcohols for use as a substitute for sugar in human food consumption, or to be refined and re-exported in refined form or in sugar-containing products, or to be substituted for domestically produced raw cane sugar that has been or will be exported. The proposed rule would have revised the current regulation at 7 CFR part 1530.

DATES: Effective date: May 4, 2010.

FOR FURTHER INFORMATION CONTACT: Ronald C. Lord, Chief, Sugar and Dairy Branch, Import Programs and Export Reporting Division, Foreign Agricultural Service, U.S. Department of Agriculture or by phone (202) 720-2916; or by fax (202) 720-0876; or by e-mail: Ronald.Lord@fas.usda.gov.

SUPPLEMENTARY INFORMATION:

Background

The U.S. and Mexican sugar markets have become increasingly integrated since duty-free, quota-free trade in sugar was fully implemented on January 1, 2008 under the North American Free Trade Agreement (NAFTA). FAS is withdrawing this proposed rule because market conditions have changed. FAS intends to publish an advance notice of proposed rulemaking concerning trade under the Sugar Re-Export Program with Mexico, requesting comments on revisions to the regulation, in particular with respect to issues not fully addressed in previous comments on the proposed rule that is being withdrawn by this action.

Signed at Washington, DC on the 26th of April, 2010.
John D. Brewer,
Administrator, Foreign Agricultural Service.

[FR Doc. 2010-10425 Filed 5-3-10; 8:45 am]

BILLING CODE P